DEPARTMENT OF AGRICULTURE

Cooperative State Research, Education, and Extension Service

7 CFR Chapter XXXIV

Solicitation of Input From Stakeholders Regarding the Beginning Farmer and Rancher Development Program

AGENCY: Cooperative State Research, Education, and Extension Service, USDA.

ACTION: Notice of public meeting and request for stakeholder input.

SUMMARY: The Cooperative State Research, Education, and Extension Service (CSREES) is implementing a newly funded competitive grants program called the Beginning Farmer and Rancher Development Program. By this notice, CSREES is designated to act on behalf of the Secretary of Agriculture in soliciting public comments and stakeholder input from persons who use or conduct research, extension or education, training, outreach and technical assistance regarding the implementing regulation to be developed for this newly funded program, as required under section 7405 of the Farm Security and Rural Investment Act of 2002, as amended by the Food, Conservation, and Energy Act of 2008 (FCEA).

DATES: The meeting will be held on Monday, October 27, 2008, from 9 a.m. to 1 p.m. All comments must be received by close of business on Friday, November 14, 2008.

ADDRESSES: The meeting will be held in rooms 1410A-D, Waterfront Centre Building, Cooperative State Research, Education, and Extension Service, United States Department of Agriculture, 800 9th Street, SW., Washington, DC 20024. Meeting participants will need to provide photo identification to be admitted to the building. Please allow sufficient time to go through security. You may submit comments, identified by CSREES-2008-0003, by any of the following methods:

Federal eRulemaking Portal: http://www.regulations.gov. Follow the instructions for submitting comments.

E-mail: psmith@csrees.usda.gov. Include CSREES-2008-0003 in the subject line of the message.

Fax: 202-401-1782.

Mail: Paper, disk or CD-ROM submissions should be submitted to BFRDP; Competitive Programs (CP) Unit, Cooperative State Research, Education, and Extension Service, U.S. Department of Agriculture, STOP 2240, 1400 Independence Avenue, SW., Washington, DC 20250-2240.

Hand Delivery/Courier: BFRDP, Competitive Programs (CP) Unit, Cooperative State Research, Education, and Extension Service, U.S. Department of Agriculture, Room 2457, Waterfront Centre, 800 9th Street, SW., Washington, DC 20024.

Instructions: All submissions received must include the agency name and reference to CSREES-2008-0003. All comments received will be posted to http://www.regulations.gov, including any personal information provided.

FOR FURTHER INFORMATION CONTACT: Ms. Paulette Smith, (202) 401-1761 (phone), (202) 401-1782 (fax), or psmith@csrees.usda.gov.

SUPPLEMENTARY INFORMATION:

Additional Meeting and Comment Procedures

Because of the diversity of subjects, and to aid participants in scheduling their attendance, the following schedule is anticipated for the October 27, 2008, meeting:

9 a.m.-9:30 a.m.—Introduction to Beginning Farmer and Rancher Development Program (program purposes and background information).

9:30 a.m.-10 a.m.—Eligibility and matching funds.

10 a.m.-10:30 a.m.—Partnerships.

10:30 a.m.-11 a.m.—Outcomes-based reporting, communication of findings and results beyond the immediate target audience, and best practices.

11 a.m.-11:30 a.m.—Educational teams.

11:30 a.m.-12 p.m.—Curriculum and Training Clearinghouse; purpose & reporting of materials.

12 p.m.-12:30 p.m.—Funding priorities.

12:30 p.m.-1 p.m.—Issues pertaining to BFRDP funding priorities and administration.

Persons wishing to present oral comments at the October 27, 2008, meeting are requested to pre-register by contacting Ms. Paulette Smith at (202) 401-1761, by fax at (202) 401-1782 or by e-mail to psmith@csrees.usda.gov. Participants may reserve one 5-minute comment. More time may be available, depending on the number of people wishing to make a presentation and the time needed for questions following presentations. Reservations will be confirmed on a first-come, first-served basis. All other attendees may register at the meeting. All comments must be received by close of business Friday, November 14, 2008, to be considered. All comments and the official transcript of the meeting, when they become available, may be reviewed on the CSREES Web page for six months. Participants who require a sign language interpreter or other special accommodations should contact Ms. Smith as directed above. Additional forums will occur after the public meeting to obtain public comments for use in developing the proposed rule for the new BFRDP program. These forums will be announced through the CSREES Web page: http://www.csrees.usda.gov/business/reporting/stakeholder/ec_stakeholder.html.

Background and Purpose

Section 7405 of the Farm Security and Rural Investment Act of 2002 (Pub. L. 107-171) as amended in the FCEA (Pub. L. 110-246) authorized the Secretary of Agriculture to make competitive grants to new and established local and regional training, education, outreach, and technical assistance initiatives that address the needs of beginning farmers and ranchers. The Secretary may award a Beginning Farmer and Rancher Development Program (BFRDP) grant to a collaborative State, tribal, local or regionally based network or partnership of public or private entities, which may include: A State cooperative extension service; a Federal, State or tribal agency; a community-based and nongovernmental organization; a college or university (including an institution awarding an associate's degree) or foundation maintained by a college or university; or any other appropriate partner, as determined by the Secretary. Grants shall be awarded to address needs of beginning farmers and ranchers in the following areas: Mentoring, apprenticeships, and internships; resources and referrals; assisting beginning farmers or ranchers in acquiring land from retiring farmers and ranchers; innovative farm and ranch transfer strategies; entrepreneurship and business training; model land leasing contracts; financial management training; whole farm planning; conservation assistance; risk management education; diversification and marketing strategies; curriculum development; understanding the impact of concentration and globalization; basic livestock and crop farming practices; the acquisition and management of agricultural credit; environmental compliance; information processing; and other similar subject areas of use to beginning farmers or ranchers. The authority to carry out this program has been delegated to CSREES through the Under Secretary for Research, Education, and Economics.

CSREES is holding a public meeting to obtain comments to use in developing the proposed rule for the newly funded BFRDP. The meeting will solicit comments regarding the implementation of BFRDP. The meeting is open to the public. Written comments and suggestions may be submitted to the CSREES Docket Clerk at the address above.

Summary of Beginning Farmer and Rancher Development Program

For fiscal year (FY) 2009, $18 million has been made available for the BFRDP. Not less than 25 percent of funds used to carry out the BFRDP for a fiscal year shall be used to support programs and services that address the needs of limited resource beginning farmers or ranchers; socially disadvantaged beginning farmers or ranchers; and farmworkers desiring to become farmers or ranchers. All applicants are required to provide funds or in-kind support from non-Federal sources in an amount that is at least equal to 25 percent of the Federal funds requested. In making BFRDP grants, priority will be given to partnerships and collaborations that are led by or include nongovernmental and community-based organizations with expertise in new agricultural producer training and outreach. Geographical diversity will be ensured to the maximum extent practicable.

Implementation Plans

CSREES plans to consider stakeholder input received from this public meeting and subsequent public forums as well as other written comments in developing an implementing regulation for this program. CSREES anticipates releasing a Request for Applications (RFA) by mid-January 2009.

Done at Washington, DC, this 19th day of September, 2008.
Colien Hefferan,
Administrator, Cooperative State Research, Education, and Extension Service.

[FR Doc. E8-22420 Filed 9-23-08; 8:45 am]

BILLING CODE 3410-22-P